DEPARTMENT OF ENERGY

Federal Energy Regulatory Commission

[Project Nos. 4678-019, 4679-022]

Power Authority of the State of New York; Notice of Availability of Final Environmental Assessment

November 17, 2000.

A final environmental assessment (FEA) is available for public review. The FEA was prepared for New York Power Authority's (licensee) application to operate the Crescent and Vischer Ferry Hydroelectric Projects in a run-of-river mode.

In summary, the FEA examines the environmental impacts of three alternatives for operating the Crescent and Vischer Ferry Projects: (1) licensee's proposed action: run-of-river operation; (2) licensee's initial proposed action: limited ponding; and (3) no-action. These alternatives are described in detail in the FEA.

The FEA recommends that the licensee operate the projects in a run-of-river mode in accordance with the licensee's proposed action alternative. The FEA concludes that implementation of this alternative would not constitute a major federal action significantly affecting the quality of the human environment.

This FEA was written by staff in the Office of Energy Projects (OEP). Copies of the FEA can be obtained by contacting the Commission's Public Reference Room at (202) 208-1371.

Linwood A. Watson, Jr.,
Acting Secretary.

[FR Doc. 00-29996 Filed 11-22-00; 8:45 am]

BILLING CODE 6717-01-M